DEPARTMENT OF AGRICULTURE

Forest Service

Notice of Proposed New Recreation Fee Sites; Federal Lands Recreation Enhancement Act (Title VIII, Pub. L. 108-447)

AGENCY: National Forests in North Carolina, USDA Forest Service.

ACTION: Notice of three proposed new recreation fee sites.

SUMMARY: Moss Knob Shooting Range, Nantahala National Forest, provides a range of target opportunities near Franklin, NC. Open year-round, this facility features six covered shooting stations. A permanent vault toilet, trash containers and an information board are on-site amenities. The Forest Service proposes to charge $3 per person per day for shooters aged 16 and over. (Shooters under the age of 16 may shoot at no fee when accompanied by an adult.) An annual pass will be available for $25 per person, and will allow use of two other shooting ranges in the Nantahala National Forest.

Wine Springs Horse Camp, Nantahala National Forest, is an equestrian campground. This campground features five single camp sites furnished with picnic tables, fire rings, lantern poles, a horse tethering area, a permanent vault toilet, and trailhead information board. Equestrians can access more than 15 miles of designated horse trails from this campground. The Forest Service proposes to charge $8 per night for a single site.

Wolf Ford Campground is located within the Cradle of Forestry National Historic Site in Pisgah National Forest. New upgrades at this campground feature 14 single camp sites. Individual camp sites are defined, graveled, and furnished with picnic tables, fire rings and lantern poles. A portable toilet was installed in spring 2010 and a permanent vault toilet will be installed in late summer. The Forest Service proposes to charge $8 for a single site.

The fees listed are only proposed and will be determined upon further analysis and public comments. All funds received from these fees will be used for continued operation and maintenance of each facility and allow additional amenities to be added to enhance the recreational experience. Comparable fees for similar facilities are currently charged, or proposed, elsewhere in National Forests in North Carolina.

DATES: Comments will be accepted through July 30, 2010. Implementation of fees is proposed to take place in calendar year 2011.

FOR FURTHER INFORMATION CONTACT:

Moss Knob Shooting Range and Wine Springs Horse Camp: Crystal Powell, Recreation Program Manager, 828-524-6441, Nantahala Ranger District, Nantahala National Forest, 90 Sloan Road, Franklin, NC 28734.

Wolf Ford Campground: Jeff Owenby, Recreation Program Manager, 828-877-3265, Pisgah Ranger District, Pisgah National Forest, 1001 Pisgah Highway, Pisgah Forest, NC 28768.

SUPPLEMENTARY INFORMATION: The Federal Recreation Lands Enhancement Act (Title VII, Pub. L. 108-447) directed the Secretary of Agriculture to publish advance notice in the Federal Register whenever new recreation fee areas are established.

Dated: May 28, 2010.
Candice Wyman,
Acting Public Affairs Officer, National Forests in North Carolina.

[FR Doc. 2010-13475 Filed 6-14-10; 8:45 am]

BILLING CODE M